NATIONAL SCIENCE FOUNDATION

Business and Operations Advisory Committee; Notice of Meeting

In accordance with the Federal Advisory Committee Act (Pub. L. 92-463, as amended), the National Science Foundation (NSF) announces the following meeting:

Name and Committee Code: Business and Operations Advisory Committee (9556).

Date and Time: June 4, 2019; 1:00 p.m. to 5:00 p.m. (EST).

Place: National Science Foundation, 2415 Eisenhower Avenue, Alexandria, Virginia, 22314; Room E 3410.

Type of Meeting: OPEN.

Contact Person: Patty Balanga, National Science Foundation, 2415 Eisenhower Avenue, Alexandria, VA, 22314; (703) 292-8100.

Purpose of Meeting: To provide advice concerning issues related to the oversight, integrity, development, and enhancement of NSF's business operations.

Agenda

Tuesday, June 4, 2019; 1:00 p.m.-5:00 p.m.

Welcome/Introductions; BFA/OIRM Updates; Workforce Planning; Government Shutdown Lessons Learned; Subcommittee on Cost Surveillance Policy and Procedures; Committee Business/Wrap Up/Virtual Hot Wash.

Dated: May 13, 2019.
Crystal Robinson,
Committee Management Officer.

[FR Doc. 2019-10222 Filed 5-16-19; 8:45 am]

BILLING CODE 7555-01-P